DEPARTMENT OF LABOR

Employment and Training Administration

Investigations Regarding Certifications of Eligibility To Apply For Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than March 29, 2012.

Interested persons are invited to submit written comments regarding the subject matter of the investigations to the Director, Office of Trade Adjustment Assistance, at the address shown below, not later than March 29, 2012.

The petitions filed in this case are available for inspection at the Office of the Director, Office of Trade Adjustment Assistance, Employment and Training Administration, U.S. Department of Labor, Room N-5428, 200 Constitution Avenue NW., Washington, DC 20210.

Signed at Washington, DC, this 9th day of March 2012.
Michael Jaffe,
Certifying Officer, Office of Trade Adjustment Assistance.

Appendix
[40 TAA petitions instituted between 2/20/12 and 3/2/12]
TA-W | Subject firm (petitioners) | Location | Date of institution | Date of petition
81348 | Fashion Tech (Company) | Salt Lake City, UT | 02/21/12 | 02/17/12
81349 | Alcatel—Lucent (Workers) | Charlotte, NC | 02/21/12 | 02/17/12
81350 | Fashion Ability Inc. (Workers) | New York, NY | 02/21/12 | 02/19/12
81351 | Quanex Corporation/Truseal Technologies Inc. (Union) | Barbourville, KY | 02/21/12 | 02/18/12
81352 | Simclar, Inc. (Company) | Dayton, OH | 02/21/12 | 02/17/12
81353 | UBS Services LLC (Workers) | Jersey City, NJ | 02/21/12 | 02/17/12
81354 | ALCOA, Tennessee Operations (Union) | Alcoa, TN | 02/21/12 | 02/07/12
81355 | Sanmina—SCI Corporation (State/One-Stop) | Huntsville, AL | 02/22/12 | 02/21/12
81356 | The W.E. Bassett Company (Company) | Shelton, CT | 02/22/12 | 02/08/12
81357 | Tri-Fab (State/One-Stop) | Fremont, CA | 02/22/12 | 02/10/12
81358 | Clipper Windpower Inc. (Workers) | Carpinteria, CA | 02/22/12 | 02/21/12
81359 | Codi Inc. (Company) | Tower City, PA | 02/23/12 | 02/22/12
81360 | Robert Bosch, LLC (Union) | St. Joseph, MI | 02/24/12 | 02/23/12
81361 | The State Journal-Register (Workers) | Springfield, IL | 02/24/12 | 02/17/12
81362 | Prairie Mountain Publishing (Workers) | Boulder, CO | 02/24/12 | 02/23/12
81363 | FLABEG Automotive US Corporation (Company) | Brackenridge, PA | 02/24/12 | 02/23/12
81364 | Jeld Wen, Inc. (State/One-Stop) | Bend, OR | 02/24/12 | 02/23/12
81365 | Avaya, Audio and Video Group (State/One-Stop) | Highlands Ranch, CO | 02/24/12 | 02/23/12
81366 | Lumber Products, Sunrise Division (State/One-Stop) | Spokane Valley, WA | 02/27/12 | 02/23/12
81367 | Infinite Convergence Solutions (Workers) | Arlington Heights, IL | 02/27/12 | 02/27/12
81368 | CitiGroup (State/One-Stop) | Tampa, FL | 02/27/12 | 02/24/12
81369 | Versatile Entertainment, Inc. (Company) | Los Angeles, CA | 02/27/12 | 02/24/12
81370 | Intelius, Inc. (Workers) | Bothell, WA | 02/27/12 | 02/24/12
81371 | Flo-Pro, Inc. (Company) | Bedford, NH | 02/27/12 | 02/24/12
81372 | Simpson Lumber Co. LLC (Union) | Shelton, WA | 02/27/12 | 02/21/12
81373 | RS Medical (International Rehabilitative Services) (State/One-Stop) | Vancouver, WA | 02/28/12 | 02/27/12
81374 | Emhart Teknologies (State/One-Stop) | Campbellsville, KY | 02/28/12 | 02/27/12
81375 | Dow Jones Corporation (State/One-Stop) | Princeton, NJ | 02/28/12 | 02/28/12
81376 | Stanley Black and Decker, working from home in Houston, Texas (Workers) | Townson, MD | 02/28/12 | 02/27/12
81377 | Allied Motion Motor Products (Workers) | Owosso, MI | 02/29/12 | 02/28/12
81378 | II-VI Inc. (Workers) | Saxonburg, PA | 02/29/12 | 02/10/12
81379 | IBM (State/One-Stop) | Phoenix, AZ | 02/29/12 | 02/03/12
81380 | YPG (Workers) | Blue Bell, PA | 02/29/12 | 02/04/12
81381 | Coplas, Inc. (State/One-Stop) | Shreveport, LA | 03/01/12 | 02/29/12
81382 | Vector Engineering Inc. (Workers) | Grass Valley, CA | 03/01/12 | 02/28/12
81383 | Impact Confections (State/One-Stop) | Roswell, NM | 03/02/12 | 02/29/12
81384 | Industrial Plastics (Union) | Valley City, OH | 03/02/12 | 03/02/12
81385 | Pfizer, Inc. (State/One-Stop) | Groton, CT | 03/02/12 | 02/27/12
81386 | W Scott & Co. (Workers) | St. Joseph, MO | 03/02/12 | 03/01/12
81387 | Eastman Kodak (Workers) | Kettering, OH | 03/02/12 | 03/01/12

[FR Doc. 2012-6570 Filed 3-16-12; 8:45 am]

BILLING CODE 4510-FN-P